DEPARTMENT OF COMMERCE

Economic Development Administration

Petitions by Producing Firms for Determination of Eligibility To Apply for Trade Adjustment Assistance

AGENCY: Economic Development Administration (EDA), Commerce.

ACTION: To give firms an opportunity to comment.

Petitions have been accepted for filing on the dates indicated from the firms listed below.

List of Petition Action by Trade Adjustment Assistance for Period 04/15/2000-05/26/2000
Firm name | Address | Date petition accepted | Product
Bulk-Tainers Corp | 20 Erie Street, Belmont, NY 14813 | 18-Apr-2000 | Large storage tanks made of carbon and stainless steel.
North Star Ice Equipment Corp | 8151 Occidental Avenue S., Seattle, WA 98108 | 19-Apr-2000 | Ice making machines and equipment.
Nafta Textile Mills, L.L.C | 315 Old River Road, Manville, RI 02838 | 25-Apr-2000 | Woven fabrics of natural and synthetic materials.
Lapco Manufacturing, Inc | 98 Glenwood Street, Morgan City, LA 70380 | 25-Apr-2000 | Cotton work shirts.
Nomad USA | 3209 Washington Ave., Newport News, VA 23607 | 25-Apr-2000 | Baseball caps.
Jorgensen Forge | 8531 E. Marginal Way S., Seattle, WA 98108 | 26-Apr-2000 | Pipe collars and billets and other forgings for the aerospace, oil, aircraft, automotive and shipbuilding industries.
Hillcrest Knitting Mills, Inc., | 908 S. Evans Street, Uvalde, Texas 78801 | 26-Apr-2000 | Cotton sweaters.
Bollman Hat Company | 110 East Main Street, Adamstown, PA 19501 | 03-May-2000 | Wood hats.
B. I. Industries, Inc | 13920 South Western Ave., Blue Island, IL 60406 | 01-May-2000 | Industrial incinerators and ovens.
Gallery Graphics, Inc | 2400 Highway 59 South, Noel, MO 64854 | 01-May-2000 | Wooden picture frames.
Thermafiber, L.L.C | 3711 West Mill Street, Wabash, IN 46992 | 01-May-2000 | Mineral wood insulation.
Walk Easy Manufacturing, Inc | L & D Drive, Owensville, MO 65066 | 04-May-2000 | Shoe components.
Bender Ship Building & Repair Co., Inc | 265 S. Water Street, Mobile, AL 36603 | 26-May-2000 | Shipbuilding and repair.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: May 16, 2000.
Anthony J. Meyer,
Coordinator, Trade Adjustment and Technical Assistance.

[FR Doc. 00-13386 Filed 5-26-00; 8:45 am]

BILLING CODE 3510-24-P